DEPARTMENT OF VETERANS AFFAIRS

Veterans' Rural Health Advisory Committee; Notice of Meeting

The Department of Veterans Affairs (VA) gives notice under the Federal Advisory Committee Act, 5 U.S.C. App. 2, that the Veterans' Rural Health Advisory Committee will hold a meeting on January 14-15, 2014, in Room 1G12, Building 1, at the George E. Whalen VA Medical Center (VAMC), 500 Foothill Drive, Salt Lake City, Utah, from 9 a.m. to 5 p.m. on January 14, and from 9 a.m. to 5 p.m. on January 15. The meeting is open to the public.

The purpose of the Committee is to advise the Secretary of Veterans Affairs on health care issues affecting enrolled Veterans residing in rural areas. The Committee examines programs and policies that impact the provision of VA health care to enrolled Veterans residing in rural areas, and discusses ways to improve and enhance VA services for these Veterans.

On the morning of January 14, the Committee will hear from its Chairman, the VAMC Director, and the Director of the Veterans Health Administration (VHA) Office of Rural Health (ORH). The Committee will hear a presentation on the Women's Health Program, witness a Telehealth demonstration, and tour Native Healing Grounds.

In the afternoon, the Committee will receive an overview of the VHA Veterans Transportation Program and a demonstration of the State of Utah's Veterans Database. At 6 p.m., the Committee will hold a Rural Veterans Forum at the Central Utah Veterans' Home, 1865 North Main, Payson, Utah.

On January 15, the Committee will hear opening remarks from its Chairman; discuss its meeting; and conduct a workgroup session on the Committee's annual report. Public comments will be received at 4:30 p.m.

Individuals scheduled to speak are invited to submit a 1-2 page summary of their comments for inclusion in the official meeting record. Because the meeting is being held in a government building, a photo I.D. must be presented at the Guard's Desk as a part of the clearance process. Therefore, you should allow an additional 15 minutes before the meeting begins.

Members of the public may also submit written statements for the Committee's review to Ms. Judy Bowie, Designated Federal Officer, ORH (10P1R), Department of Veterans Affairs, 810 Vermont Avenue NW., Washington, DC 20420, or email at rural.health.inquiry@va.gov. Any member of the public seeking additional information should contact Ms. Bowie at (202) 461-1929.

Dated: December 4, 2013.
Jeffrey M. Martin,
Program Manager, Regulation Policy and Management, Office of the General Counsel.

[FR Doc. 2013-29301 Filed 12-6-13; 8:45 am]

BILLING CODE 8320-01-P